DEPARTMENT OF HEALTH AND HUMAN SERVICES

Centers for Medicare & Medicaid Services

42 CFR Parts 412, 413, 415, 424, 440, 441, 482, 485, and 489

[CMS-1498-F, and CMS-1498-IFC; CMS-1406-F]

RIN 0938-AP80; RIN 0938-AP33

Medicare Program; Hospital Inpatient Prospective Payment Systems for Acute Care Hospitals and the Long-Term Care Hospital Prospective Payment System Changes and FY 2011 Rates; Provider Agreements and Supplier Approvals; and Hospital Conditions of Participation for Rehabilitation and Respiratory Care Services; Medicaid Program: Accreditation for Providers of Inpatient Psychiatric Services; Corrections

AGENCY: Centers for Medicare & Medicaid Services (CMS), HHS.

ACTION: Correction of final rules and interim final rule with comment period.

SUMMARY: This document corrects technical and typographical errors in the final rules and interim final rule with comment period entitled “Medicare Program; Hospital Inpatient Prospective Payment Systems for Acute Care Hospitals and the Long-Term Care Hospital Prospective Payment System Changes and FY 2011 Rates; Provider Agreements and Supplier Approvals; and Hospital Conditions of Participation for Rehabilitation and Respiratory Care Services; Medicaid Program: Accreditation for Providers of Inpatient Psychiatric Services” that appeared in the August 16, 2010 Federal Register.

DATES: Effective Date: This correction notice is effective October 1, 2010.

FOR FURTHER INFORMATION CONTACT: Tzvi Hefter, (410) 786-4487.

SUPPLEMENTARY INFORMATION:

I. Background

In FR Doc. 2010-19092 of August 16, 2010 (75 FR 50042), there were a number of technical errors that are identified and corrected in the Correction of Errors section below. The provisions in this correction notice are effective as if they had been included in the document entitled “Medicare Program; Hospital Inpatient Prospective Payment Systems for Acute Care Hospitals and the Long-Term Care Hospital Prospective Payment System Changes and FY 2011 Rates; Provider Agreements and Supplier Approvals; and Hospital Conditions of Participation for Rehabilitation and Respiratory Care Services; Medicaid Program: Accreditation for Providers of Inpatient Psychiatric Services” (hereinafter referred to as the fiscal year (FY) 2011 IPPS/LTCH PPS final rule) that appeared in August 16, 2010 Federal Register. Accordingly, the corrections are effective October 1, 2010.

II. Summary of Errors

The following is a summary of the errors identified in the FY 2011 IPPS/LTCH PPS final rule and corrected in section III. of this notice:

A. Summary of Errors in the Preamble

On page 50099, we are correcting errors in the present on admission (POA) indicator “Y” percentage for two previously considered hospital acquired conditions (HACs) that are listed in Chart H “POA Status of Previously Considered ‘Candidate’ HAC Conditions—October 2008 Through September 2009.”

On page 50161, we are correcting a website reference error in the first footnote to the table regarding the Frontier States identified for the FY 2011 wage index floor adjustment.

On page 50224, in our discussion of the data submission and reporting requirements for the Reporting Hospital Quality Data for Annual Payment Update (RHQDAPU) program, we inadvertently indicated that the Central Line Associated Blood Stream Infection (CLABSI) measure would be part of the measure set for the FY 2012 payment determination rather than the FY 2013 payment determination. We had previously, on page 50202, finalized the CLABSI measure for the FY 2013 payment determination and the information on page 50224 should have reflected this policy.

B. Summary of Errors in the Addendum

On page 50432, in the table “Comparison of FY 2010 Standardized Amounts to the FY 2011 Standardized Amount with Full and Reduced Update” we inadvertently indicated the incorrect figures in the column headings.

On page 50433, in our discussion of the Federal rate, we inadvertently indicated an incorrect amount for the low-volume payment adjustment.

On pages 50451 through 50547 in Table 2, we are correcting the provider and wage index data to reflect corrections to Tables 4C, 4J, and 9A.

On pages 50516 through 50520, Table 4C, we inadvertently made technical errors in several hospitals' geographic reclassifications that were used in calculating the wage index that was published in the FY 2011 IPPS/LTCH PPS final rule. As a result of reclassification corrections in Table 9A, the wage index for CBSA 22180 increased from 0.9193 to 0.9254. The wage indices for CBSA 26580 (KY, OH, WV) decreased from 0.8726 to 0.8672. The addition of provider 360096 to Table 9A also results in a wage index for Ohio hospitals reclassifying to CBSA 49660 of 0.8558.

On pages 50540 through 50547 in Table 4J, we inadvertently omitted providers located in Tarrant County, TX that are eligible to receive the out-migration adjustment. As a result of the reclassification correction to provider 360096, we are correcting Table 4J to indicate that the provider will be reclassified for FY 2011.

On pages 50593 through 50604, in Table 9A.—Hospital Reclassifications and Redesignations—FY 2011, we are correcting an error in the reclassification of provider 340008; the provider was reclassified to CBSA 22180 rather than CBSA 26580. Also, we have added provider to 360096 to Table 9A.

III. Correction of Errors

In FR Doc. 2010-19092 of August 16, 2010, make the following corrections:

A. Corrections to the Preamble

1. On page 50099, in the chart, “Chart H.—POA Status of Previously Considered ‘Candidate’ HAC Conditions—October 2008 Through September 2009,” column 8 (Present on Admission, POA = Y, Percent) is corrected for the listed entries as follows:

Previously considered HAC condition | Present on admission: POA = Y: Number | Present on admission: POA = Y: Percent
4. Staphylococcus aureus Septicemia | 17,330 | 77.3
5. Methicillin-Resistant Staphylococcus aureus | 68,089 | 96.4

2. On page 50161, middle of the page, in the table entitled “Frontier States Indentified for the FY 2011 Wage Index Floor Adjustment Under Section 10324(a) of the Affordable Care Act,” in the first footnote, the Web site link “http://www.census.gov/popest/estimates.html (2009 County Total Population Estimates)” is corrected to read “http://www.census.gov/popest/counties/counties.html (County population, population change.)”

3. On page 50224,

a. Top quarter of the page, third column, first partial paragraph, line 4, the fiscal year “2012” is corrected to read “2013”.

b. Top third of the page, in the table “Submission Timeframes for CLABSI Measure for the FY 2012 Payment Determination,”

(1) The table heading, “Submission Timeframes for CLABSI Measure for the FY 2012 Payment Determination,” is corrected to read “Submission Timeframes for CLABSI Measure for the FY 2013 Payment Determination”.

(2) Column 3, the column heading, “Final Submission Deadline for RHQDAPU FY 2012 Payment Determination” is corrected to read “Final Submission Deadline for RHQDAPU FY 2013 Payment Determination”.

B. Corrections to the Addendum

1. On page 50432, in the table “Comparison of FY 2010 Standardized Amounts to the FY 2011 Standardized Amount with Full and Reduced Update,” the column headings,

a. Columns 2 and 3, the figure “2.4” is corrected to read “2.35”.

b. Columns 4 and 5, the figure “0.4” is corrected to read “0.35”.

2. On page 50433, second column, seventh paragraph, line 8, the phrase “25 percent.” is corrected to read “the applicable percentage increase specified in § 412.101(c).”

3. On pages 50451 through 50504, in Table 2 “Hospital Case-Mix Indexes for Discharges occurring in Federal Fiscal Year 2009; Hospital Wage Indexes for Federal Fiscal Year 2011; Hospital Average Hourly Wages for Federal Fiscal Years 2009 (2005 Wage Data), 2010 (2006 Wage Data), and 2011 (2007 Wage Data); and 3-Year Average Hourly Wages” column 2 (FY 2011 Wage Index) is corrected for the following provider numbers:

Provider No. | FY 2011 Wage index
180044 | 0.8672
180069 | 0.8672
180078 | 0.8672
340008 | 0.9254
340050 | 0.9254
360008 | 0.8672
360054 | 0.8672
360096 | 0.8558
510077 | 0.8672
670023 | 0.9438
670042 | 0.9438
670046 | 0.9438

4. On pages 50516 through 50520, in Table 4C “Wage Index and Capital Geographic Adjustment Factor (GAF) for Acute Care Hospitals that are Reclassified By CBSA and By State—FY 2011” is correcting the wage index and GAF for hospitals reclassifying to the following CBSA:

CBSA | CBSA Name | State | Wage index | GAF
22180 | Fayetteville, NC | NC | 0.9254 | 0.9483
26580 | Huntington-Ashland, WV-KY-OH | KY | 0.8672 | 0.9070
26580 | Huntington-Ashland, WV-KY-OH | OH | 0.8672 | 0.9070
26580 | Huntington-Ashland, WV-KY-OH | WV | 0.8672 | 0.9070
49660 | Youngstown-Warren-Boardman, OH-PA | OH | 0.8558 | 0.8989

5. On pages 50540 through 50547, in Table 4J “Out Migration Adjustment for Acute Care Hospitals-FY 2011” the table is corrected by adding the following entries:

Provider No. | Reclassified for FY 2011 | Out-migration adjustment | Qualifying county name | County code
360096 | * | 0.0011 | COLUMBIANA | 36140
670023 |  | 0.0054 | TARRANT | 45910
670042 |  | 0.0054 | TARRANT | 45910
670046 |  | 0.0054 | TARRANT | 45910

6. On pages 50593 and 50604, in Table 9A.—Hospital Reclassifications and Redesignations—FY 2011 the table is corrected by—

a. Changing the reclassified CBSA for the following entry:

Provider No. | Geographic CBSA | Reclassified CBSA | LUGAR
340008 | 34 | 22180 |

b. Adding following entry:

Provider No. | Geographic CBSA | Reclassified CBSA | LUGAR
360096 | 36 | 49660 | LUGAR

IV. Waiver of Proposed Rulemaking and Delay in Effective Date

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued.

In our view, this notice does not constitute a rulemaking that would be subject to the APA notice and comment or delayed effective date requirements. This notice merely corrects typographical and technical errors in the preamble and addendum of the FY 2011 IPPS/LTCH PPS final rule and does not make substantive changes to the policies or payment methodologies that were adopted in the final rule. As a result, this notice is intended to ensure that the FY 2011 IPPS/LTCH PPS final rule accurately reflects the policies adopted in that rule.

In addition, even if this were a rulemaking to which the notice and comment and delayed effective date requirements applied, we find that there is good cause to waive such requirements. Undertaking further notice and comment procedures to incorporate the corrections in this notice into the final rule or delaying the effective date would delay these corrections beyond the October 1 start of the fiscal year, and would be contrary to the public interest. Furthermore, such procedures would be unnecessary, as we are not altering the policies that were already subject to comment and finalized in our final rule.

Therefore, we believe we have good cause to waive the notice and comment and effective date requirements.

(Catalog of Federal Domestic Assistance Program No. 93.773, Medicare—Hospital Insurance; and Program No. 93.774, Medicare—Supplementary Medical Insurance Program)

Dated: September 28, 2010.
Dawn L. Smalls,
Executive Secretary to the Department.

[FR Doc. 2010-24712 Filed 9-30-10; 8:45 am]

BILLING CODE 4120-01-P